DEPARTMENT OF COMMERCE

Bureau of the Census

[Docket Number 090429803-9711-01]

Procedures for Participating in the 2010 Decennial Census New Construction Program

AGENCY: Bureau of the Census, Department of Commerce.

ACTION: Notice and request for comments.

SUMMARY: The Bureau of the Census (Census Bureau) requests public comment on the New Construction Program, which allows tribal and local governments to submit lists of addresses for newly constructed housing units to the Census Bureau. The purpose of this program is to ensure that the Census Bureau's address list is as complete and accurate as possible for the conduct of the Decennial Census on April 1, 2010.

DATES: To ensure consideration during the decision-making process, the Census Bureau must receive all comments in writing on or before July 31, 2009.

ADDRESSES: Comments concerning the proposed 2010 Census New Construction Program should be submitted to Arnold A. Jackson, Associate Director for Decennial Census, U.S. Census Bureau, through one of the following methods:

FAX: Comments may be faxed to (301) 763-8867.

E-mail: Comments may be e-mailed to Arnold.A.Jackson@census.gov.

FOR FURTHER INFORMATION CONTACT: Correspondence about the Census Bureau's 2010 Census New Construction Program in general should be directed to Timothy F. Trainor, Chief, Geography Division, U.S. Census Bureau, through one of the following methods:

FAX: Correspondence may be faxed to (301) 763-4710.

E-mail: Correspondence may be e-mailed to Timothy.F.Trainor@census.gov.

SUPPLEMENTARY INFORMATION: As part of its objective to produce a complete and accurate population count, the Census Bureau proposes to implement the 2010 Decennial Census New Construction Program to capture the addresses of newly constructed housing units. Specifically, the purpose is to utilize tribal and local knowledge of recent and in-progress construction to identify, and add to the census address list, the addresses for housing units not yet existent at the time of the Address Canvassing Operation, a nationwide check during the Spring/Summer of 2009 in which the Census Bureau verified the census address list that will be used to deliver questionnaires for the Decennial Census. During address canvassing, census workers systematically canvassed all census blocks looking for living quarters and add, delete, and correct entries on the census address list to ensure its completeness and accuracy. The Address Canvassing Operation is expected to conclude on July 17, 2009. In order to account for any housing units whose construction began after the start of the Address Canvassing Operation, the Census Bureau is proposing to implement the New Construction Program.

The 2010 Decennial Census New Construction Program is conducted by the Census Bureau under the authority of Title 13, United States Code (U.S.C.), Section 141(a), and is separate and distinct from the Local Update of Census Addresses Program (see 73 FR 12369) in that its only purpose is to identify addresses for housing units newly constructed starting in March 2009 that are expected to be closed to the elements (final roof, windows and doors) by Census Day, April 1, 2010. The New Construction Program was conducted for the first time as part of Census 2000.

Proposed 2010 Decennial Census New Construction Program

The 2010 Census New Construction Program is offered to Federally Recognized American Indian tribal governments with reservations and/or trustlands, and local governments (counties, incorporated places, and functioning minor civil divisions) with jurisdictions where the Census Bureau will deliver the census questionnaires by mail. For other areas, Census Bureau enumerators will hand deliver the census questionnaires to all housing units in each block, including any newly constructed units not already on the census address list. Tribal and local governments that wish to participate in the Program will be invited to submit a list of addresses of newly constructed housing units for inclusion in the Census Address List. The address list submitted by New Construction Program participants must only include addresses for housing units for which construction began during or after March 2009 that are expected to be closed to the elements (final roof, windows and doors) by Census Day, April 1, 2010. No street or boundary updates will be accepted by the New Construction Program.

The New Construction Program will not accept additions of Group Quarters addresses. Group Quarters addresses are defined as places where people live or stay in a group living arrangement that is owned or managed by an entity or organization providing housing and/or services for the residents. The Census Bureau has programs that are specifically designed to capture new Group Quarters addresses, including but not limited to, Group Quarters Validation, Group Quarters Advanced Visit, Group Quarters Enumeration, and the Count Review program.

The Census Bureau plans to mail a New Construction Program invitation letter and registration forms in July 2009 to the tribal and local governments that are eligible to participate in the New Construction Program. Interested tribal and local governments will be asked to return the registration form in order to participate in the program. As part of the registration form, the participant must identify the format of the maps or spatial data that they wish to receive from the Census Bureau. The maps or spatial data are for use as a reference for assigning census tract and block codes (geocoding) for each submitted address. The maps are offered in Portable Document Format (PDF) and spatial data are available from TIGER® in shapefile format that requires a Geographic Information System (GIS) software application for viewing.

For governments choosing maps in PDF, the Census Bureau will provide Adobe® Reader® software to view the PDF maps. For those participants who choose to use shapefiles, the Census Bureau will provide the MAF/TIGER Partnership Software (MTPS) to enter addresses and output them in the prescribed format. The MTPS is an easy-to-use desktop tool that makes participation easier for governments without a GIS system. The MTPS also provides map viewing capability when used with the shapefiles provided by the Census Bureau. However, participants may use their own software to create a computer readable list of addresses in the prescribed format.

The Census Bureau will send out New Construction materials to registered participants during November 2009 through January 2010. The PDF package will contain the following:

(1) The New Construction Quick Start Document;

(2) The New Construction User Guide;

(3) The New Construction Address List Template;

(4) Zip Software;

(5) CD Readme.txt File;

(6) PDF Software (Adobe® Reader®);

(7) New Construction Map PDFs.

The MTPS/Shapefile package will contain the following:

(1) The New Construction Quick Start Document;

(2) The New Construction User Guide;

(3) The New Construction MTPS User Guide;

(4) The New Construction Address List Template;

(5) Zip Software;

(6) CD Readme.txt File;

(7) MTPS Software;

(8) Shapefiles.

Participants must submit their New Construction address lists to the Census Bureau within forty-five (45) calendar days after receipt of the New Construction materials. “Receipt” as used herein is defined as the delivery date reported to the Census Bureau by the delivery service that delivers the New Construction materials to the eligible government. The New Construction addresses must be returned in the Census Bureau's predefined format and each address must be “geocoded,” or assigned to the census tract and block in which it is located as shown on the New Construction census maps (PDF or shapefiles).

Files that are submitted in the proper format are compared against the Census Bureau's Master Address File to check for any addresses already on the list. The Census Bureau, using the participant supplied addresses, will visit and attempt to enumerate each newly constructed housing unit that has been identified as missing from our list. The census enumeration process will determine the final housing unit status and population for each new unit.

Classification

Executive Order 12866

This notice has been determined to not be significant under Executive Order 12866.

Paperwork Reduction Act

Notwithstanding any other provision of law, no person is required to respond to, nor shall a person be subject to a penalty for failure to comply with, a collection of information subject to the requirements of the Paperwork Reduction Act (PRA) unless that collection of information displays a current, valid Office of Management and Budget (OMB) control number. In accordance with the PRA, 44 U.S.C., Chapter 35, the Census Bureau requested, and OMB granted, clearance for the information collection requirements for this program on April 15, 2009 (OMB Control Number 0607-0795, expires on April 30, 2012).

Thomas L. Mesenbourg,
Acting Director, U.S. Census Bureau.

[FR Doc. E9-15524 Filed 6-30-09; 8:45 am]

BILLING CODE 3510-07-P